ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, July 18, 2013. The meeting will be held in Room M-09 at the Old Post Office Building at 1100 Pennsylvania Avenue NW., Washington, DC at 8:30 a.m.

DATES: The quarterly meeting will take place on Thursday, July 18, 2013, starting at 8:30 a.m. EST.

ADDRESSES: The quarterly meeting will be held in Room M-09 at the Old Post Office Building, 1100 Pennsylvania Ave., NW., Washington, DC 20004.

FOR FURTHER INFORMATION CONTACT: Cindy Bienvenue, 202-606-8521, cbienvenue@achp.gov.

SUPPLEMENTARY INFORMATION: The Advisory Council on Historic Preservation (ACHP) is an independent federal agency that promotes the preservation, enhancement, and productive use of our nation's historic resources, and advises the President and Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8:30 a.m.

I. Chairman's Welcome

II. Swearing In Ceremony

III. Chairman's Award

IV. U.S. Marine Corps Poster Presentation

V. Chairman's Report

VI. ACHP Management Issues

A. ACHP FY 2013 and 2014 Budget

B. Alumni Foundation Report

C. ACHP Office Relocation Update

VII. Historic Preservation Policy and Programs

A. Building a More Inclusive Preservation Program

1. Future Directions for the ACHP

2. Civil War to Civil Rights Initiative

B. Preserve America at 10: Future Directions

1. Follow up from Forum

2. Presidential Heritage Awards

C. Planning for 50th Anniversary of the National Historic Preservation Act

D. Rightsizing Task Force Report

E. Sustainability and the Department of Defense

F. ACHP Legislative Agenda

1. Amendments to the National Historic Preservation Act

2. Recent Legislation Related to Historic Preservation

VIII. Section 106 Issues

A. The ACHP and the Federal Real Property Council

B. Section 106 Issues in the Second Term

1. Presidential Memorandum on Permitting and Transmission

2. Hurricane Sandy Recovery and Unified Federal Review

C. Federal Communications Commission Program Alternative

IX. New Business

X. Adjourn

The meetings of the ACHP are open to the public. If you need special accommodations due to a disability, please contact Cindy Bienvenue, 202-606-8521, at least seven (7) days prior to the meeting.

Authority: 16 U.S.C. 470j

Dated: June 26, 2013.
John M. Fowler,
Executive Director.

[FR Doc. 2013-15752 Filed 6-28-13; 8:45 am]

BILLING CODE 4310-K6-P